DEPARTMENT OF COMMERCE

Foreign-Trade Zones Board

[B-12-2017]

Foreign-Trade Zone (FTZ) 29—Louisville, Kentucky; Notification of Proposed Production Activity; Hitachi Automotive Systems Americas, Inc. (Automotive Fuel Injection Assemblies); Harrodsburg, Kentucky

The Louisville and Jefferson County Riverport Authority, grantee of FTZ 29, submitted a notification of proposed production activity to the FTZ Board on behalf of Hitachi Automotive Systems Americas, Inc. (Hitachi), located in Harrodsburg, Kentucky. The notification conforming to the requirements of the regulations of the FTZ Board (15 CFR 400.22) was received on February 6, 2017.

Hitachi already has authority to produce automotive components within Subzone 29F of FTZ 29. The current request would add an additional finished product to the scope of authority. Pursuant to 15 CFR 400.14(b), additional FTZ authority would be limited to the specific finished product described in the submitted notification (as described below) and subsequently authorized by the FTZ Board.

Production under FTZ procedures could exempt Hitachi from customs duty payments on the foreign-status materials/components used in export production. On its domestic sales, Hitachi would be able to choose the duty rates during customs entry procedures that apply to fuel rail assemblies (duty rate 2.5%) for the foreign-status materials/components in the existing scope of authority. Customs duties also could possibly be deferred or reduced on foreign-status production equipment.

Public comment is invited from interested parties. Submissions shall be addressed to the Board's Executive Secretary at the address below. The closing period for their receipt is April 3, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Kemp at Christopher.Kemp@trade.gov or (202) 482-0862.

Dated: February 15, 2017.
Andrew McGilvray,
Executive Secretary.

[FR Doc. 2017-03435 Filed 2-21-17; 8:45 am]

BILLING CODE 3510-DS-P